NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by September 4, 2024. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2025-010

1. Applicant: Daniel Costa, 130 MacAlister Way, University of California, Santa Cruz, CA 95060

Activity for Which Permit is Requested: Take, Harmful Interference, Enter Antarctic Specially Protected Area, Import into USA, Export from USA. The applicant seeks an ACA permit in association with research on the foraging ecology of Weddell seals. The applicant would capture, weigh, measure, sample, and tag up to 25 adult Weddell seals. Additionally, up to 10 Crabeater seal adults, up to 5 Ross seal adults, up to 5 Leopard seal adults, and up to 5 Elephant seal adults would be captured, weighed, measured, sampled, and tagged. Seals would be chemically immobilized using sedatives including telazol, ketamine-diazepam, ketamine-midazolam, and butorphanol-midazolam during handling. This approach has been used during previous work in the Ross Sea, and is currently permitted under a NMFS Marine Mammal permit valid until November 30, 2026. Samples taken would include whiskers, blood, muscle and blubber biopsies. Seals would be flipper tagged and instrumented with a satellite data logger, total handling time would be under 1 hour per animal. Work would be conducted in ASPA 124—Cape Crozier, as well as ASPA 105—Beaufort Island, ASPA 116—New College Valley, ASPA 121—Cape Royds, ASPA 155—Cape Evans, and ASPA 157—Backdoor Bay.

Location: ASPA 105—Beaufort Island, McMurdo Sound, Ross Sea; ASPA 116—New College Valley, Caughley Beach, Cape Bird, Ross Island; ASPA 121—Cape Royds, Ross Island; ASPA 124—Cape Crozier, Ross Island; ASPA 155—Cape Evans, Ross Island; ASPA 157—Backdoor Bay, Cape Royds, Ross Island.

Dates of Permitted Activities: October 1, 2024-September 30, 2024.

Kimiko S. Bowens-Knox,
Program Analyst, Office of Polar Programs.

[FR Doc. 2024-17206 Filed 8-2-24; 8:45 am]

BILLING CODE 7555-01-P